DEPARTMENT OF COMMERCE

National Oceanic and Atmospheric Administration

50 CFR Part 648

[Docket No. 260218-0049; RTID 0648-XF362]

Fisheries of the Northeastern United States; Revised 2026 Atlantic Mackerel Specifications

AGENCY: National Marine Fisheries Service (NMFS), National Oceanic and Atmospheric Administration (NOAA), Commerce.

ACTION: Interim final rule.

SUMMARY: NMFS is adjusting the specifications for the 2026 Atlantic mackerel fishery to reflect the results of an updated mackerel management track stock assessment. This in-season action is intended to continue rebuilding the mackerel stock, help the mackerel fishery achieve optimum yield, and ensure that management measures are based on the best scientific information available.

DATES: Effective February 23, 2026. Public comments must be received by March 25, 2026.

ADDRESSES: You may submit comments on this document, identified by NOAA-NMFS-2025-1594, by any of the following methods:

• Electronic Submission: Submit all electronic public comments via the Federal e-Rulemaking Portal. Visit https://www.regulations.gov and type NOAA-NMFS-2025-1594 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

FOR FURTHER INFORMATION CONTACT: Maria Fenton, Fishery Policy Analyst, (978) 281-9196.

SUPPLEMENTARY INFORMATION:

Background

NMFS and the Mid-Atlantic Fishery Management Council (Council) manage the Atlantic mackerel fishery pursuant to the Mackerel, Squid, and Butterfish Fishery Management Plan (FMP). Regulations implementing the Mackerel, Squid, and Butterfish FMP appear at 50 CFR part 648, subpart B. Section 302(g)(1)(B) of the Magnuson-Stevens Fishery Conservation and Management Act (Magnuson-Stevens Act; 16 U.S.C. 1852(g)(1)(B)) states that the Scientific and Statistical Committee (SSC) for each regional fishery management council shall provide its council with ongoing scientific advice for fishery management decisions, including recommendations for acceptable biological catch (ABC), preventing overfishing, maximum sustainable yield (MSY), and achieving rebuilding targets. The regulations at § 648.22(d)(1) set forth the process by which the Council recommends, and NMFS approves and implements, annual fishing specifications for the Atlantic mackerel fishery and provide that if annual specifications for mackerel are not published in the Federal Register prior to the start of the fishing year, the previous year's annual specifications will remain in effect. By operation of this provision, the 2025 mackerel specifications will be in effect in fishing year 2026 until replaced with a new action. Additionally, the regulations at § 648.22(e) provide the Regional Administrator with the authority to adjust mackerel specifications in-season, after consulting with the Council, by publishing such an adjustment in the Federal Register.

Previous Stock Assessments and Regulatory Actions

In 2017, the Northeast Fisheries Science Center (Science Center) completed a benchmark stock assessment (Stock Assessment Workshop 64) that concluded that the mackerel stock was overfished and subject to overfishing. In response to these findings, the Council developed Framework Adjustment 13 (Framework 13) to the Mackerel, Squid, and Butterfish FMP to establish a rebuilding plan that would rebuild the mackerel stock within 5 years (i.e., by 2023). NMFS published a final rule implementing Framework 13 on October 30, 2019 (84 FR 58053).

In 2021, the Science Center completed a management track stock assessment that concluded that the mackerel stock remained overfished and subject to overfishing. The assessment also found that, because previous assumptions about recruitment had not come to fruition, the rebuilding plan that was implemented through Framework 13 was no longer adequate and rebuilding by 2023 was not possible. In light of this new information, the Council developed Amendment 23 to the Mackerel, Squid, and Butterfish FMP, which revised the rebuilding plan and established a new rebuilding timeline of 10 years (i.e., by 2032). NMFS published a final rule implementing Amendment 23 on February 1, 2023 (88 FR 6665).

In 2023, the Science Center completed an updated management track stock assessment that concluded that the mackerel stock remained overfished but was no longer subject to overfishing. The assessment also found that the stock had unexpectedly failed to rebuild, and projections indicated that overfishing would occur in 2023 if the full quota was landed. In response to the preliminary assessment results, the Council requested that NMFS take emergency action to limit directed mackerel fishing for the remainder of 2023, and, on October 13, 2023, NMFS published a temporary rule implementing reduced trip limits of 20,000 pounds (lb) (9.08 mt) for all limited access permits and 5,000 lb (2.27 mt) for open access permits (88 FR 70909). Following a peer review of the 2023 assessment, the Council recommended reducing the mackerel ABC from 8,094 mt in 2023 to 3,200 lb in 2024-2025, which resulted in the domestic annual harvest (DAH; i.e., commercial quota) decreasing by 76 percent from 3,639 mt in 2023 to 868 mt in 2024-2025. Because of the low commercial quota, the Council also recommended maintaining the trip limits that were set through NMFS' October 2023 temporary rule. NMFS published a final rule implementing the Council's recommended 2024 and projected 2025 mackerel specifications on April 12, 2024 (89 FR 25820), and later reaffirmed the 2025 specifications via a final rule published on September 23, 2025 (90 FR 45674).

Updated 2025 Management Track Stock Assessment and Council Recommendations for 2026 Specifications

In 2025, the Science Center completed a new updated management track stock assessment for mackerel. The results of the 2025 assessment indicate that the stock remains not subject to overfishing and is no longer overfished and projected to reach its rebuilding target by 2025. This change in stock status is likely due to recent closures of the Canadian directed commercial mackerel fishery, reductions in U.S. mackerel catch, and increased recruitment. The assessment found that recruitment in 2022-2024 was above the time series average, with 2024 recruitment being the highest estimate since 1983.

The Council's SSC met in October 2025 to review the 2025 assessment results and develop 2026-2027 mackerel ABC recommendations. The SSC expressed concern that the 2024 recruitment estimate was unreliable as it was based on only one year of fishery age composition data and would likely be revised downward in a future assessment, as has been the trend with mackerel assessments. Due to this uncertainty, the SSC recommended substituting a lower short-term (2009-2023) median recruitment for the assessment's initial 2024 recruitment estimate when computing 2026-2027 ABCs, and maintaining an overfishing limit (OFL) coefficient of variation (CV) of 100 percent. Substituting the short-term median value reduced the 2024 recruitment estimate by 93 percent, which in turn altered future projected biomass and ABCs. Revised projections using the reduced 2024 recruitment value revealed that, relative to the 2025 spawning stock biomass (SSB) projection that was initially generated for the assessment, projected 2025 SSB decreased by 61 percent. However, even considering these uncertainties, the SSC agreed that all stock projections indicate increased biomass and the opportunity for higher catch limits.

The Council's Mackerel, Squid, and Butterfish Committee met jointly with its River Herring and Shad Committee in November 2025 to discuss the 2025 assessment results, SSC recommendations, Advisory Panel input, and staff recommendations. The Mackerel, Squid, and Butterfish Committee considered four alternatives for rebuilding scenarios and fishery specifications for 2026-2027:

• Alternative A1: Maintaining the status quo, 2026-2027 ABCs = 3,200 mt;

• Alternative A2: Applying the Council's standard P* risk policy, 2026 ABC = 10,714, 2027 ABC = 14,485 mt;

• Alternative A3: Applying a constant F of 0.12 (60-percent probability of rebuilding by 2032), 2026 ABC = 12,252, 2027 ABC = 14,164 mt; and

• Alternative A4: Applying a constant F of 0.15 (51-percent probability of rebuilding by 2023), 2026 ABC = 15,134, 2027 ABC = 17,107 mt.

Because the SSC already built a significant scientific uncertainty buffer into its ABC recommendations with the use of a revised 2024 recruitment estimate and a 100 percent CV, the Mackerel, Squid, and Butterfish Committee determined that an adequate level of precaution was already incorporated into each alternative. Therefore, it recommended Alternative A4, which would result in the highest quotas for 2026-2027. Additionally, the River Herring and Shad Committee recommended maintaining a status quo 129-mt river herring/shad (RH/S) catch cap in 2026-2027.

During its December 2025 meeting, the Council took final action on a mackerel framework adjustment, which included recommendations for 2026 and projected 2027 mackerel fishery specifications. Consistent with the Mackerel, Squid, and Butterfish Committee, the Council recommended rebuilding and specifications Alternative A4. In accordance with the regulations at § 648.22(e), the Regional Administrator consulted with the Council during this meeting on a potential in-season adjustment to modify the rollover mackerel specifications at the start of fishing year 2026. In prior years when the total mackerel quota was higher, there was substantial fishing activity early in the year, especially in January and February. Between 2018 and 2021, the commercial fishery landed more than 3,600 mt each year between January 1 and February 28. Because completing notice-and-comment rulemaking for the framework will delay full implementation of the new 2026 specifications until after the start of the fishing year on January 1, 2026, absent an intervening action to adjust the 2026 specifications, the fishery would initially be constrained to the rollover specifications from 2025, including a commercial quota of 868 mt. Therefore, the Council requested that NMFS use an in-season adjustment to increase the 2026 specifications as soon as possible in order to decrease the risk of the fishery failing to achieve optimum yield and avoid unnecessarily limiting economic opportunities.

In-Season Adjusted 2026 Specifications

Through this interim final rule, NMFS is implementing an in-season adjustment to increase the 2026 mackerel fishery specifications above the 2025 specifications that are in place by operation of the rollover provisions of § 648.22(e). In advance of considering the Council's recommended 2026 mackerel specifications contained in the framework, here NMFS is implementing 2026 specifications consistent with those in Alternative A2 of the Council's framework, which were calculated by applying the Council's standard risk policy (85 FR 81152; December 15, 2020). The risk policy specifies the acceptable probability of overfishing (P*) when recommending ABCs. The acceptable P* for a stock is based on the ratio of current biomass (B) to the biomass target (B at maximum sustainable yield, or “BMSY”) for that stock. Under the risk policy, a higher level of risk is acceptable for stocks that are healthy and at or above their biomass targets. The risk policy seeks to prevent stocks from being overfished by reducing the probability of overfishing under lower biomass conditions, while allowing for increased risk and greater economic benefits under higher biomass conditions. For mackerel in 2026, the B/BMSY ratio was calculated as 0.67, which results in a P* of 0.231 and a fishing mortality rate (F) of 0.10. This approach results in the mackerel stock having a 51-percent probability of rebuilding by 2032.

The 2026 specifications being implemented through this in-season action are all increases relative to those that are currently in place with the exception of the RH/S catch cap which is remaining status quo (table 1). The 2026 mackerel ABC is 235 percent higher than the 2025 ABC. The 2026 specifications include a 500-mt deduction to account for expected Canadian mackerel catch, which is based on an announcement from the Department of Fisheries and Oceans Canada stating that the commercial mackerel fishery would remain closed, but there will be an annual total allowable catch of 500 mt for mackerel in 2026 (440 mt for the personal-use bait fishery, 20 mt for the bluefin tuna fishery, 20 mt for scientific sampling, and 20 mt of estimated bycatch). After subtracting the Canadian catch deduction from the ABC, the resulting 2026 ACL is 227 percent higher than the 2025 ACL. These 2026 in-season specifications also include a 2,500-mt deduction to account for expected recreational mackerel catch, which is 17 percent higher than it was in 2025. This increase reflects general variability in recreational catch and uncertainty in recreational catch estimates, as well as the fact that the Council recommended an increase to recreational possession limits as part of the pending mackerel framework adjustment. The 610-mt 2026 management uncertainty buffer was calculated based on one day of high-volume landings in a highly productive year for the mackerel fishery and is designed to help ensure that the commercial mackerel fishery can be closed in time to prevent overages of the commercial ACT and ACL. Commercial discards in 2026 (287 mt) were calculated based on average annual commercial discards over the most recent two years. Finally, the 2026 DAH (i.e., commercial quota) is 685 percent higher than the 2025 DAH.

Table 1—Current 2025 and Adjusted 2026 Mackerel Specifications in Metric Tons (mt)
Specification | Current 2025 | New 2026
ABC | 3,200 | 10,714
Canadian Catch Deduction | 74 | 500
U.S. ABC/Annual Catch Limit | 3,126 | 10,214
Recreational Catch Deduction | 2,143 | 2,500
Management Uncertainty Buffer | 0 | 610
Commercial Annual Catch Target | 983 | 7,104
Commercial Discards | 115 | 287
DAH/Domestic Annual Processing | 868 | 6,817
RH/S Catch Cap | 129 | 129

The new 2026 specifications being implemented through this interim final rule represent an incremental increase, falling between the current 2025 mackerel specifications and the recommended 2026 specifications that the Council voted on at its December 2025 Council meeting but are not yet under review by NMFS. The decision to set the interim 2026 specifications at the level consistent with Alternative A2 does not prejudice NMFS' future consideration of the Council's recommendation to approve specifications based on Alternative A4. This action is intended to provide the fishing industry with access to a substantial quota increase as soon as possible in the 2026 fishing year. NMFS will consider the Council's recommendation for final 2026 specifications upon receipt of the framework document and proceed with notice-and-comment rulemaking after that review. The 2026 specifications being set through this action will remain in effect until they are replaced by final 2026 specifications contained in the pending framework action.

Classification

NMFS is issuing this rule pursuant to 305(d) of the Magnuson-Stevens Act. The reason for using this regulatory authority is that in a previous action implemented under section 304(b) of the Magnuson-Stevens Act, the regulations at § 648.22(e) authorize NMFS to take this action under section 305(d).

Pursuant to 5 U.S.C. 553(b)(B), there is good cause to waive prior notice and an opportunity for public comment on this action, as notice and comment would be contrary to the public interest. The mackerel fishing year started on January 1, 2026. Absent some intervening action to adjust mackerel specifications for 2026, the fishery will continue to be constrained to low rollover specifications from 2025. These specifications are based on an outdated 2023 stock assessment and therefore no longer reflect the best scientific information available. An updated 2025 stock assessment found that, relative to 2023, the status of the mackerel stock has improved and can support higher harvest levels. In prior years when mackerel catch limits were higher, there was substantial mackerel fishing activity early in the year. Between 2018 and 2021, the commercial fishery landed more than 3,600 mt of mackerel annually between January 1 and February 28, which is more than the commercial quota (868 mt) that would rollover from 2025. Providing for prior notice and an opportunity for public comment would delay the implementation of revised 2026 mackerel specifications, raising a significant risk that fishing opportunities would not be available when resource and market conditions would provide substantial economic opportunity for the fishery and communities that depend upon it. Additionally, a delay in implementing new, higher 2026 specifications would increase the risk that the fishery would fail to achieve optimum yield. We are inviting public comment on this interim final rule, and we will also seek public comment on the framework action once it has been submitted by the Council. Comments received from the public in response to this notice will be considered as part of the framework rulemaking, which will determine if the 2026 specifications will remain the same as set forth here or will be modified for the remainder of the year. For the same reasons, and because this action relieves a restriction for the mackerel fishery by providing a substantially higher commercial quota, waiver the 30-day delay in effective date is appropriate pursuant to 5 U.S.C. 553(d)(1) and 553(d)(3).

This interim final rule is exempt from the procedures of Executive Order (E.O.) 12866 because this action contains no implementing regulations.

This final rule is not an E.O. 14192 regulatory action because this action is not significant under E.O. 12866.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared. Because prior notice and opportunity for public comment are not required for this rule by 5 U.S.C. 553, or any other law, the analytical requirements of the Regulatory Flexibility Act, 5 U.S.C. 601 et seq., are inapplicable.

This final rule contains no information collection requirements under the Paperwork Reduction Act of 1995.

List of Subjects in 50 CFR Part 648

Fisheries, Fishing, Reporting and recordkeeping requirements.

Dated: February 18, 2026.
Sarah Malloy,
Acting Deputy Assistant Administrator for Regulatory Programs, National Marine Fisheries Service.

[FR Doc. 2026-03504 Filed 2-20-26; 8:45 am]

BILLING CODE 3510-22-P